ENVIRONMENTAL PROTECTION AGENCY

[EPA-HQ-OW-2008-0150; FRL-10140-01-OMS]

Information Collection Request Submitted to OMB for Review and Approval; Comment Request; Establishing No-Discharge Zones (NDZs) Under Clean Water Act Section 312 (Renewal)

AGENCY: Environmental Protection Agency (EPA).

ACTION: Notice.

SUMMARY: The Environmental Protection Agency (EPA) has submitted an information collection request (ICR), Establishing No-Discharge Zones (NDZs) under Clean Water Act Section 312 (EPA ICR number 1791.09, OMB Control Number 2040-0187) to the Office of Management and Budget (OMB) for review and approval in accordance with the Paperwork Reduction Act. This is a proposed extension of the ICR that is currently approved through August 31, 2022. Public comments were previously requested via the Federal Register on January 25, 2022, during a 60-day comment period. This notice allows for an additional 30 days for public comments. A description of the ICR is given below, including its estimated burden and cost to the public. An agency may not conduct or sponsor, and a person is not required to respond to, a collection of information unless it displays a currently valid OMB control number.

DATES: Additional comments may be submitted on or before September 12, 2022.

ADDRESSES: Submit your comments, referencing Docket ID Number EPA-HQ-OW-2008-0150, online using www.regulations.gov (our preferred method), by email to OW-Docket@epa.gov, or by mail to: EPA Docket Center, Environmental Protection Agency, Mail Code 28221T, 1200 Pennsylvania Ave. NW, Washington, DC 20460.

For additional delivery options and information about EPA's dockets, visit https://www.epa.gov/dockets. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Kelsey Watts-FitzGerald, Oceans, Wetlands, and Communities Division, Office of Wetlands, Oceans, and Watersheds, 4504T, Environmental Protection Agency, 1200 Pennsylvania Ave. NW, Washington, DC 20460; telephone number: 202-566-0232; email address: watts-fitzgerald.kelsey@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: (A) Sewage No-Discharge Zones (NDZs): CWA section 312(f) and the implementing regulations in 40 CFR part 140 identify the information that must be included in a state's application to the EPA to establish an NDZ for vessel sewage for some or all the state's waters.

In designated NDZs, discharge of both treated and untreated sewage from vessels is prohibited. A state is not required to designate an NDZ and therefore need only develop applications for waters where such a discharge prohibition has been deemed necessary and beneficial by the state. This ICR addresses the burden to state respondents to develop applications containing the necessary information, as well as the burden associated with the EPA's review of state applications. The information collection activities discussed in this ICR do not require the submission of any confidential information.

(B) Uniform National Discharge Standards (UNDS) NDZs and Review of Discharge Determination or Standard: CWA section 312(n)(7) and the implementing regulations in 40 CFR part 1700 identify the information that a state must submit to the EPA in the state's application to establish an NDZ for one or more discharges incidental to the normal operation of a vessel of the Armed Forces. A state may seek an NDZ designation for any incidental discharge subject to UNDS for which the EPA and Department of Defense (DoD) have promulgated national standards of performance and corresponding implementing regulations, respectively. In addition, CWA section 312(n)(5) provides that that the Governor of any state may petition the EPA and DoD to review any discharge determination or standard promulgated under CWA section 312(n) for vessels of the Armed Forces if there is significant new information that could reasonably result in a change to the discharge determination or standard. This ICR addresses the burden to a state respondent to develop applications for NDZs and requests for a review of a determination or standard and the burden to the EPA to review the applications. The information collection activities discussed in this ICR do not require the submission of any confidential information.

Form Numbers: None.

Respondents/affected entities: States.

Respondent's obligation to respond: The responses to this collection of information are required to obtain the benefit of a vessel sewage NDZ (CWA section 312(f)) or an UNDS NDZ or review of a discharge determination or standard (CWA section 312(n)).

Estimated number of respondents: 11 (total).

Frequency of response: One time.

Total estimated burden: 577 hours (per year). Burden is defined at 5 CFR 1320.03(b)

Total estimated cost: $34,713 (per year), includes $548 annualized capital or operation & maintenance costs.

Changes in the Estimates: There is a decrease of 337 hours in the total estimated respondent burden compared with the ICR currently approved by OMB. This estimated decrease is attributable to a downward adjustment in the estimated number of anticipated total actions during the upcoming 3-year period.

Courtney Kerwin,
Director, Regulatory Support Division.

[FR Doc. 2022-17385 Filed 8-11-22; 8:45 am]

BILLING CODE 6560-50-P